POSTAL SERVICE

39 CFR Part 20

International Mailing Services: Proposed Product and Price Changes—CPI

AGENCY: Postal Service™.

ACTION: Proposed rule; request for comments.

SUMMARY: The Postal Service proposes to revise Mailing Standards of the United States Postal Service, International Mail Manual (IMM®), to reflect changes coincident with recently announced mailing services price adjustment.

DATES: We must receive your comments on or before November 21, 2019.

ADDRESSES: Mail or deliver comments to the manager, Product Classification, U.S. Postal Service®, 475 L'Enfant Plaza SW, RM 4446, Washington, DC 20260-5015. You may inspect and photocopy all written comments at USPS® Headquarters Library, 475 L'Enfant Plaza SW, 11th Floor N, Washington, DC by appointment only between the hours of 9 a.m. and 4 p.m., Monday through Friday by calling 1-202-268-2906 in advance. Email comments, containing the name and address of the commenter, to: ProductClassification@usps.gov, with a subject line of “January 2020 International Mailing Services Price Change—CPI.” Faxed comments are not accepted.

FOR FURTHER INFORMATION CONTACT: Michelle Lassiter at 202-268-2914.

SUPPLEMENTARY INFORMATION:

International Price and Service Adjustments

On October 9, 2019, the Postal Service filed a notice of mailing services price adjustments with the Postal Regulatory Commission (PRC), effective on January 26, 2020. The Postal Service proposes to revise Notice 123, Price List, available on Postal Explorer® at https://pe.usps.com, to reflect these new price changes. The new prices are or will be available under Docket Number R2020-1 on the Postal Regulatory Commission's website at www.prc.gov.

Over the course of time, country names have changed due to a variety of political or cultural reasons. By notice filed on October 9, 2019, in PRC Docket No. MC2020-7, and in collaboration with International Postal Affairs and requests made through the Universal Postal Union, the Postal Service proposed to update country names throughout mailing standards, changing Republic of Macedonia to Republic of North Macedonia and using the short name North Macedonia. This proposed rule seeks public comment on proposed updates to the IMM that are designed to implement this name change.

This proposed rule also describes the price and classification changes and the corresponding mailing standards changes for the following market dominant international services:

• First-Class Mail International® service

• International extra services and fees.

First-Class Mail International

The Postal Service plans to increase prices for single-piece First-Class Mail International (FCMI) letters, postcards, and flats by approximately 4.6 percent. The price for a single-piece 1-ounce letter will increase to $1.20. The First-Class Mail International letter nonmachinable surcharge remains $0.21.

International Extra Services and Fees

The Postal Service plans to increase fees for certain market dominant international extra services including:

• Certificate of Mailing.

• Return Receipt.

• Customs Clearance and Delivery Fee.

• International Business Reply™ Mail Service.

Certificate of Mailing
| Fee
Individual pieces:
Individual article (PS Form 3817) | $1.50
Duplicate copy of PS Form 3817 or PS Form 3665 (per page) | 1.50
Firm mailing sheet (PS Form 3665), per piece (minimum 3); First-Class Mail International only | 0.43
Bulk quantities:
For first 1,000 pieces (or fraction thereof) | 8.75
Each additional 1,000 pieces (or fraction thereof) | 1.09
Duplicate copy of PS Form 3606 | 1.50

Return Receipt

Fee: $4.15.

Customs Clearance and Delivery

Fee: per piece $6.50.

International Business Reply Service

Fee: Cards $1.50; Envelopes up to 2 ounces $2.00.

Following the completion of Docket No. R2020-1, the Postal Service will adjust the prices for products and services covered by the International Mail Manual. These prices will be available on Postal Explorer at https://pe.usps.com.

Accordingly, although exempt from the notice and comment requirements of the Administrative Procedure Act (5 U.S.C. 553(b), (c)) regarding proposed rulemaking by 39 U.S.C. 410(a), the Postal Service invites public comment on the following proposed changes to Mailing Standards of the United States Postal Service, International Mail Manual (IMM®), which is incorporated by reference in the Code of Federal Regulations in accordance with 39 CFR 20.1, and to associated changes to Notice 123, Price List.

List of Subjects in 39 CFR Part 20

Foreign relations, International postal services.

Accordingly, 39 CFR part 20 is proposed to be amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the Mailing Standards of the United States Postal Service, International Mail Manual (IMM), as follows:

Mailing Standards of the United States Postal Service, International Mail Manual (IMM)

[Throughout the IMM, change all references to “Macedonia, Republic of” to “North Macedonia, Republic of” or use the short name “North Macedonia” and place in correct alphabetical order in lists]

* * * * *

New prices will be listed in the updated Notice 123, Price List

Brittany M. Johnson,
Attorney, Federal Compliance.

[FR Doc. 2019-22819 Filed 10-21-19; 8:45 am]

BILLING CODE 7710-12-P